DEPARTMENT OF HEALTH AND HUMAN SERVICES

Food and Drug Administration

DEPARTMENT OF AGRICULTURE

Food Safety and Inspection Service

[Docket No. 00N-0504]

Egg Safety; Current Thinking Papers on Egg Safety National Standards; Notice of Availability; Public Meeting

[Docket No. 98-045N4]

AGENCIES: Food and Drug Administration, HHS; Food Safety and Inspection Service, USDA.

ACTION: Notice of availability and announcement of public meeting.

SUMMARY: The Food and Drug Administration (FDA) and the Food Safety and Inspection Service (FSIS) are announcing the availability of the agencies' current thinking papers on national standards for egg safety. The documents discuss approaches to the production of shell eggs, processing and packaging of shell eggs and egg products, and retail sale of shell eggs, including immediate consumption, such as at a restaurant, intended to reduce the risk of consumer exposure to Salmonella enteritidis (SE). The current thinking papers represent the agencies' current views on approaches to ensure egg safety from farm to table. FDA and FSIS are also announcing a joint public meeting to be held to discuss the current thinking papers.

DATES: The current thinking papers will be presented and distributed at a public meeting on July 31, 2000. The public meeting will be held on Monday, July 31, 2000, from 8 a.m. to 5 p.m. Submit written comments no later than August 14, 2000.

ADDRESSES: The meeting will be held at the Holiday Inn—Washington, DC on the Hill, 415 New Jersey Ave. NW., Washington, DC 20001, 202-638-1616.

After the meeting, the current thinking papers on egg safety national standards will be available on the Internet at www.foodsafety.gov, or from Tammy O'Conner, USDA/FSIS/OPPDE/RDAD, rm. 112, Cotton Annex Bldg., 300 12th St. SW., Washington, DC 20250-3700, FAX 202-205-0381, or FDA's Center for Food Safety and Applied Nutrition Outreach and Information Center, FAX 877-366-3322.

Transcripts and summaries of the meeting will be available at the Dockets Management Branch (HFA-305), FDA, 5630 Fishers Lane, rm. 1061, Rockville, MD 20852.

FOR FURTHER INFORMATION CONTACT: To register for the meeting:

Sally Fernandez, FSIS, 202-501-7251 or FAX 202-501-7615. When registering please provide name, title, firm name, address, telephone, and fax number. When registering, please indicate if you would like to make a presentation during the meeting. Time allotted for each presentation will be approximately 5 minutes for each participant, but will depend on the number of people participating. If you require a sign language interpreter or other special accommodations, please notify Ms. Fernandez 7 days before the meeting.

For general information regarding the meeting or the Egg Safety Action Plan: Nancy Bufano, FDA, 202-401-2022, FAX 202-205-4422, or e-mail: nancy.bufano@cfsan.fda.gov; Alice Thaler, FSIS, 202-690-2683, FAX 202-720-8213; or Martha Workman, FSIS, 202-720-3219, FAX 202-690-0824.

SUPPLEMENTARY INFORMATION:

I. Background

The President's Council on Food Safety was established in August 1998 to improve the safety of the food supply through science-based regulation and well-coordinated inspection, enforcement, research, and education programs. The Council on Food Safety was charged with developing a comprehensive long-range strategic plan that can be used to set priorities, improve coordination and efficiency, identify gaps in the current system, recommend ways to fill those gaps, enhance and strengthen prevention and intervention strategies, and identify or develop measures to show progress.

The Council has identified egg safety as one component of food safety that warrants immediate Federal, interagency action. In July 1999, FDA and FSIS committed to developing an action plan to address the presence of SE in shell eggs and egg products using a farm-to-table approach.

As part of this action plan, FDA and FSIS held a public meeting on August 26, 1999, to obtain stakeholder input on draft goals, as well as to further develop objectives and action items. The Egg Safety Action Plan, announced by the President on December 11, 1999, was developed, in part, from the input received at the meeting. The Egg Safety Action Plan is available on the Internet at www.foodsafety.gov or from the general information contact persons above.

The information shared at the public meeting and during the comment period following the public meeting will be considered prior to any further actions by the agencies. The agencies may hold additional public meetings, as appropriate, to discuss other issues, including strategies to ensure effective and efficient interactions between State and Federal governments.

II. Decision to Make Current Thinking Papers Available for Comment

On March 30, 2000, and April 6, 2000, the agencies held public meetings in Columbus, OH, and Sacramento, CA, respectively, to solicit and discuss information related to the implementation of the Egg Safety Action Plan and to gather information for reducing or eliminating the risk of SE in eggs. Transcripts from both meetings are available on the Internet at www.foodsafety.gov or from FDA's Dockets Management Branch (address above), at a cost of 10 cents per page. The summaries of the public meetings are also available for public examination at FDA's Dockets Management Branch between 9 a.m. and 4 p.m., Monday through Friday.

Based on verbal comments received at the meetings, written comments received subsequent to the meetings, and the desire to promote public participation in the implementation of the Egg Safety Action Plan, FDA and FSIS decided to publish this notice of availability of the agencies' current thinking papers in the Federal Register.

The current thinking papers represent the agencies' current views on approaches to ensure egg safety from farm to table. FDA and FSIS are soliciting public comment on these documents to obtain views as to whether the agencies are implementing the Egg Safety Action Plan in a way that will best achieve its public health goals.

III. Opportunity for Public Meeting

The agenda for the public meeting will address the following segments of the farm-to-table egg safety continuum: (1) On-Farm Production, (2) Packer/Processor, and (3) Retail. The agenda will also provide for discussion of economics issues, as well as small business and consumer perspectives.

Attendees are encouraged to present their comments, concerns, and recommendations on any of these topics at the public meeting. Attendees wishing to make a presentation must indicate such when registering.

Individuals and organizations that do not preregister to make a presentation may have the opportunity to speak if time permits. A transcript of the proceedings of the public meeting, as well as all information and data submitted voluntarily to FDA and FSIS during the public meeting to discuss the current thinking papers, will become part of the administrative record and will be available to the public under 21 CFR 20.111 from FDA's Dockets Management Branch (address above).

While oral presentations from specific individuals and organizations will be limited during the public meeting, the written comments submitted as part of the administrative record may contain a discussion of any issues of concern. All relevant data and documentation should be submitted with the written comments.

IV. Additional Public Notification

Public awareness of and involvement in all segments of rulemaking and policy development is important. Consequently, in an effort to better ensure that minorities, women, and persons with disabilities are aware of this notice, FSIS will announce the notice and provide copies of this Federal Register publication in the FSIS Constituent Update. FSIS provides a weekly FSIS Constituent Update, which is communicated via fax to over 300 organizations and individuals. In addition, the update is available on line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office at 202-720-5704.

V. Public Dockets and Submission of Comments

The agencies have established public dockets to which comments may be submitted. Comments should be directed either to FSIS, Docket No. 98-045N4, or to FDA, Docket No. 00N-0504, or to both dockets for consideration by both agencies. All comments must include the appropriate docket number found in brackets in the heading of this document. Submit written comments in triplicate to: (1) USDA/FSIS Docket Clerk, 300 12th St. SW., rm. 102, Cotton Annex, Washington, DC 20250-3700, or (2) FDA's Dockets Management Branch (address above). You may also send comments to Dockets Management Branch at the following e-mail address: FDADockets@oc.fda.gov or via the FDA Internet at http://www.accessdata.fda.gov/scripts/oc/dockets/comments/commentdocket.cfm.

VI. Meeting Summary

A summary of the proceedings of the public meeting will be posted on the Internet at www.foodsafety.gov. This website is a joint FDA, USDA, and Environmental Protection Agency food safety home page. It is linked to each agency for persons seeking additional food safety information. A summary of the proceedings of the public meeting may also be requested in writing from FDA's Dockets Management Branch (address above) approximately 30 business days after the meeting, at a cost of 10 cents per page. The summary of the public meeting will be available for public examination at FDA's Dockets Management Branch between 9 a.m. and 4 p.m., Monday through Friday.

Dated: July 5, 2000.
Thomas J. Billy,
Administrator, Food Safety and Inspection Service, U.S. Separtment of Agriculture.

William K. Hubbard,
Senior Associate Commissioner for Policy, Planning, and Legislation, Food and Drug Administration.

[FR Doc. 00-17494 Filed 7-10-00; 8:45 am]

BILLING CODE 4160-01-F